DEPARTMENT OF ENERGY

Federal Energy Regulatory Commission

[Project No. 77-314]

Pacific Gas and Electric Company; Notice of Technical Meeting

a. Project Name and Number: Potter Valley Hydroelectric Project No. 77.

b. Project licensee: Pacific Gas and Electric Company (PG&E).

c. Date and Time of Meeting: Tuesday, January 10, 2023, 1:00 p.m. Eastern Time (10 a.m. Pacific Time).

d. FERC Contact: Diana Shannon, (202) 502-6136 or diana.shannon@ferc.gov.

e. Project Location: The Potter Valley Project is located on the Eel River and the East Branch Russian River in Mendocino and Lake Counties, California.

f. Purpose of Meeting: On March 17, 2022, the National Marine Fisheries Service (NMFS) proposed interim protective measures for continued operation of the Potter Valley Project. Upon receipt of additional information from NMFS and PG&E, on November 16, 2022, Commission staff issued public notice of a proceeding to consider reopening the project license under standard Article 15 to require the proposed interim measures to protect federally listed species. Commission staff is meeting with NMFS and PG&E on January 10, 2023, via conference call, to discuss the proposed interim measures.

g. Proposed Agenda:

(1) Introduction of participants;

(2) Commission staff explain the purpose of the meeting; and

(3) Participants discuss the proposed interim measures.

h. All local, state, and federal agencies, Indian Tribes, and other interested parties are invited to listen to the meeting. However, participation in the meeting will be limited to NMFS, PG&E, and Federal Energy Regulatory Commission staff. The meeting will be transcribed by a court reporter and the transcript will be placed in the public record.

i. Please call or email Diana Shannon at (202) 502-6136 or diana.shannon@ferc.gov by Friday, January 6, 2023, to RSVP and to receive specific instructions on how to participate.

Dated: December 13, 2022.
Kimberly D. Bose,
Secretary.

[FR Doc. 2022-27455 Filed 12-16-22; 8:45 am]

BILLING CODE 6717-01-P